DEPARTMENT OF COMMERCE

International Trade Administration

[C-570-074]

Common Alloy Aluminum Sheet From the People's Republic of China: Final Results of Countervailing Duty Administrative Review; 2020

AGENCY: Enforcement and Compliance, International Trade Administration, Department of Commerce.

SUMMARY: The U.S. Department of Commerce (Commerce) determines that countervailable subsidies are being provided to producers and exporters of common alloy aluminum sheet (aluminum sheet), from the People's Republic of China (China) during the period of review (POR) January 1, 2020, through December 31, 2020.

DATES: Applicable September 6, 2022.

FOR FURTHER INFORMATION CONTACT: Natasia Harrison or Harrison Tanchuck, AD/CVD Operations, Office VI, Enforcement and Compliance, International Trade Administration, U.S. Department of Commerce, 1401 Constitution Avenue NW, Washington, DC 20230; telephone: (202) 482-1240 or (202) 482-7421, respectively.

SUPPLEMENTARY INFORMATION:

Background

Commerce published the Preliminary Results of this administrative review in the Federal Register on March 4, 2022, and we invited comments from interested parties.¹ On April 8, 2022, we received timely case briefs from the following interested parties: Jiangsu Alcha Aluminium Co., Ltd. (Jiangsu Alcha) and its affiliated trading company Alcha International Holdings Limited (Alcha International); ² Yinbang Clad Material Co., Ltd. (Yinbang Clad); ³ and the domestic industry.⁴ Jiangsu Alcha and Alcha International, jointly, and the domestic industry submitted timely filed rebuttal briefs on April 22, 2022.⁵

¹ See Common Alloy Aluminum Sheet from the People's Republic of China: Preliminary Results of Countervailing Duty Administrative Review; 2020, 87 FR 12429 (March 4, 2022) (Preliminary Results), and accompanying Preliminary Decision Memorandum.

² See Jiangsu Alcha and Alcha International's Letter, “Common Alloy Aluminum Sheet from the People's Republic of China: Case Brief,” dated April 8, 2022. The “Alcha Group” companies include Jiangsu Alcha, Alcha International and Jiangsu Alcha's cross-owned affiliates Baotou Alcha Aluminium Co., Ltd. (Baotou Alcha) and Jiangsu Alcha New Energy Materials Co., Ltd. (Alcha Materials). Jiangsu Alcha reported that, in 2018, Jiangsu Alcha changed its name from “Jiangsu Alcha Aluminium Co., Ltd.” to “Jiangsu Alcha Aluminium Group Co., Ltd.” See Alcha Group's Letter, “Common Alloy Aluminum Sheet from the People's Republic of China: Alcha Group's Initial Questionnaire Response,” dated July 8, 2021, at 4. See also Alcha Group's Letter, “Common Alloy Aluminum Sheet from the People's Republic of China: Alcha Group's Sixth Supplemental Questionnaire Response,” dated March 23, 2022 (Alcha Group 6SQR), at 1-4. After the Preliminary Results, the Alcha Group explained the spelling inconsistencies in Jiangsu Alcha and Baotou Alcha's company names throughout the record. For example, the narrative portions of Alcha Group responses and corresponding English translations of Chinese-language exhibits referred to Jiangsu Alcha as “Jiangsu Alcha Aluminium Co., Ltd.” and “Jiangsu Alcha Aluminium Group Co., Ltd.” interchangeably. These responses also referred to Baotou Alcha as “Baotou Alcha Aluminum Co., Ltd.” and “Baotou Alcha Aluminium Co., Ltd.” interchangeably. According to Alcha Group 6SQR, the official English company names are Jiangsu Alcha Aluminium Group Co., Ltd., Alcha International Holdings Limited, Baotou Alcha Aluminium Co., Ltd. and Jiangsu Alcha New Energy Materials Co., Ltd.

³ See Yinbang Clad's Letter, “Common Alloy Aluminum Sheet from the People's Republic of China: Yinbang's Case Brief,” dated April 8, 2022.

⁴ See Domestic Industry's Letter, “Common Alloy Aluminum Sheet from the People's Republic of China: Domestic Industry's Case Brief,” dated April 8, 2022. The domestic industry includes the Aluminum Association Common Alloy Aluminum Sheet Trade Enforcement Working Group and its individual members (collectively, the domestic industry). The individual members of the Aluminum Association Common Alloy Aluminum Sheet Trade Enforcement Working Group are: Arconic Corporation; Commonwealth Rolled Products, Inc.; Constellium Rolled Products Ravenswood, LLC; Jupiter Aluminum Corporation; JW Aluminum Company; and Novelis Corporation.

⁵ See Jiangsu Alcha and Alcha International's Letter, “Common Alloy Aluminum Sheet from the People's Republic of China: Rebuttal Brief,” dated April 22, 2022; see also the Domestic Industry's Letter, “Common Alloy Aluminum Sheet from the People's Republic of China: Domestic Industry's Rebuttal Brief,” dated April 22, 2022.

On June 24, 2022, Commerce extended the deadline for issuing these final results to 180 days after the publication date of the Preliminary Results, until August 31, 2022.⁶

⁶ See Memorandum, “Common Alloy Aluminum Sheet from the People's Republic of China: Extension of Deadline for Final Results of Countervailing Duty Administrative Review; 2020,” dated June 24, 2022.

Scope of the Order

The product covered by the Order is aluminum sheet from China. A full description of the scope of the Order is contained in the Issues and Decision Memorandum.⁷

⁷ See Memorandum, “Issues and Decision Memorandum for the Final Results of the Countervailing Duty Administrative Review of Common Alloy Aluminum Sheet from the People's Republic of China; 2018-2019,” dated concurrently with, and hereby adopted by, this notice (Issues and Decision Memorandum).

Analysis of Comments Received

All issues raised in interested parties' briefs are addressed in the Issues and Decision Memorandum accompanying this notice. A list of topics discussed in the Issues and Decision Memorandum is provided in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on comments in case and rebuttal briefs and record evidence, Commerce made certain changes with respect to the methodology used in the Preliminary Results to calculate Alcha Group's program rate for the Government Provision of Primary Aluminum for Less than Adequate Remuneration program. We made no changes for Yinbang Clad. These changes are discussed in the Issues and Decision Memorandum.

Methodology

Commerce conducted this administrative review in accordance with section 751(a)(1)(A) of the Tariff Act of 1930, as amended (the Act). For each subsidy program found to be countervailable, Commerce finds that there is a subsidy, i.e., a financial contribution by an “authority” that confers benefit to the recipient, and that the subsidy is specific.⁸ For a full description of the methodology underlying our conclusions, including our reliance, in part on adverse facts available (AFA) pursuant to section 776(a) and (b) of the Act, see the Issues and Decision Memorandum.

⁸ See sections 771(5)(B) and (D) of the Act regarding financial contribution; section 771(5)(E) of the Act regarding benefit; and section 771(5A) of the Act regarding specificity.

Final Results of Review

In accordance with 19 CFR 351.221(b)(4)(i), we calculated a countervailable subsidy rate for mandatory respondents Jiangsu Alcha and Alcha International. We determined the countervailable subsidy rate for Yinbang Clad based entirely on AFA, in accordance with section 776 of the Act. Because there are no other producers or exporters subject to this review and not selected for individual examination (i.e., non-selected companies), Commerce does not need to establish the rate for non-selected companies in this review.

Commerce determines that, for the period January 1, 2020, through December 31, 2020, the following net countervailable subsidy rates exist:

⁹ This rate applies to Jiangsu Alcha and its cross-owned companies: Baotou Alcha and Alcha Materials.

¹⁰ We cumulated the benefits from subsidies received by Alcha International, which exported subject merchandise produced by Jiangsu Alcha, to the United States during the POR, with the benefits from subsidies received by Jiangsu Alcha, during the POR in accordance with 19 CFR 351.525(c). For further discussion, see the Issues Decision Memorandum at “Attribution of Subsides.”

Company | Subsidy rate (percent ad valorem)
Jiangsu Alcha Aluminium Co., Ltd.⁹/Alcha International Holdings Limited ¹⁰ | 17.80
Yinbang Clad Material Co., Ltd | * 252.22
* Rate based on AFA.

Disclosure

Commerce will disclose to the parties in this proceeding the calculations performed for these final results within five days of the date of publication of this notice in the Federal Register.¹¹

¹¹ See 19 CFR 351.224(b).

Assessment Rates

Pursuant to sections 751(a)(1) and (a)(2)(C) of the Act and 19 CFR 351.212(b)(2), Commerce shall determine, and U.S. Customs and Border Protection (CBP) shall assess, countervailing duties on all appropriate entries of subject merchandise covered by this review.

Commerce intends to issue assessment instructions to CBP no earlier than 35 days after the date of publication of these final results of review in the Federal Register. If a timely summons is filed at the U.S. Court of International Trade, the assessment instructions will direct CBP not to liquidate relevant entries until the time for parties to file a request for a statutory injunction has expired (i.e., within 90 days of publication).

Cash Deposit Instructions

Pursuant to section 751(a)(1) and (a)(2)(C) of the Act, Commerce intends to instruct CBP to collect cash deposits of estimated countervailing duties in the amounts shown for the companies listed above on shipments of subject merchandise entered, or withdrawn from warehouse, for consumption on or after the date of publication of the final results of this administrative review. These cash deposit instructions, when imposed, shall remain in effect until further notice.

Administrative Protective Order

This notice also serves as a reminder to parties subject to an administrative protective order (APO) of their responsibility concerning the return or destruction of proprietary information disclosed under APO in accordance with 19 CFR 351.305(a)(3). Timely written notification of the return or destruction of APO materials or conversion to judicial protective order is hereby requested. Failure to comply with the regulations and terms of an APO is a sanctionable violation.

Notification to Interested Parties

Commerce is issuing and publishing these results in accordance with sections 751(a)(1) and 777(i)(1) of the Act, and 19 CFR 351.221(b)(5).

Dated: August 30, 2022.
Lisa W. Wang,
Assistant Secretary for Enforcement and Compliance.

Appendix

List of Topics Discussed in the Issues and Decision Memorandum

I. Summary

II. Background

III. Changes Since the Preliminary Results

IV. Scope of the Order

V. Subsidies Valuation

VI. Loan Interest Rate Benchmarks, Discount Rates, and Benchmarks

VII. Use of Facts Otherwise Available and Adverse Inferences

VIII. Analysis of Programs

IX. Analysis of Comments

Comment 1: Whether Commerce Should Apply Adverse Facts Available (AFA) to the Export Buyer's Credit (EBC) Program

Comment 2: Whether Commerce Should Make Certain Revisions to its Calculation of the Benchmark for Primary Aluminum for Less Than Adequate Remuneration (LTAR)

Comment 3: Whether Commerce Should Use Distinct Benchmarks to Calculate the Benefit from Primary Aluminum for LTAR Provided to Jiangsu Alcha and Baotou Alcha

Comment 4: Whether Commerce Should Assign an AFA Rate for Policy Loans to the Aluminum Sheet Industry to Baotou Alcha

Comment 5: Whether Commerce Should Revise Baotou Alcha's Benefit Calculation for Policy Loans to the Aluminum Sheet Industry

Comment 6: Whether Commerce Should Modify the Total AFA Rate Applied to Yinbang Clad

X. Recommendation

[FR Doc. 2022-19193 Filed 9-2-22; 8:45 am]

BILLING CODE 3510-DS-P